DEPARTMENT OF JUSTICE

Antitrust Division

Notice Pursuant to the National Cooperative Research and Production Act of 1993—Silicon Integration Initiative, Inc.

Notice is hereby given that, on April 15, 2021 pursuant to Section 6(a) of the National Cooperative Research and Production Act of 1993, 15 U.S.C. 4301 et seq. (“the Act”), Silicon Integration Initiative, Inc. (“Si2”) has filed written notifications simultaneously with the Attorney General and the Federal Trade Commission disclosing changes in its membership. The notifications were filed for the purpose of extending the Act's provisions limiting the recovery of antitrust plaintiffs to actual damages under specified circumstances. Specifically, AMSIMCEL SRL, Vicovu de Jos, ROMANIA; Frontier Design Automation, Austin, TX; Hongzhunda, Shanghai, PEOPLE'S REPUBLIC OF CHINA; Nanjing Industrial Innovation Center of EDA, Nanjing, PEOPLE'S REPUBLIC OF CHINA; Northrop Grumman Systems Corporation, Linthicum, MD; Phlexing Technology, Hangzhou, PEOPLE'S REPUBLIC OF CHINA; Primarius Technologies Co., Ltd., Shanghai, PEOPLE'S REPUBLIC OF CHINA; Silicon Technologies, Inc., Midvale, UT; and Silintech, Inc., Suzhou, PEOPLE'S REPUBLIC OF CHINA have been added as parties to this venture.

Also, Chengdu Higon IC Design Co., Ltd., Beijing, PEOPLE'S REPUBLIC OF CHINA; HW21 Org Limited, San Francisco, CA; Invecas Inc., Santa Clara, CA; ProPlus Design Solutions, Inc., San Jose, CA; Savarti Company Limited, Milpitas, CA; and Thrace Systems, San Jose, CA, have withdrawn as parties to this venture.

Additionally, Avatar Integrated Systems, Inc., Santa Clara, CA, was acquired by existing member Siemens Industry Software, Inc., Wilsonville, OR; AWR/a National Instruments Corporation, El Segundo, CA, was acquired by existing member, Cadence Design Systems, San Jose, CA; Broadcom Corporation, Irvine, CA has changed its name to Broadcom, Inc.; Dassault Systèmes, Stuttgart, GERMANY, has changed its name to Dassault Systèmes Deutschland GmbH; Fractal Technologies, Los Gatos, CA, has changed its name to Fractal Technologies, Inc.; GLOBALFOUNDRIES, Santa Clara, CA, has changed its name to GLOBALFOUNDRIES U.S. Inc.; Google Inc., Mountain View, CA, has changed its name to Google LLC; Empyrean Software, San Jose, CA, has changed its name to DaVinchi Inc. dba Empyrean Software; Jedat, Tokyo, JAPAN, has changed its name to Jedat Inc.;

MediaTek, Hsinchu, TAIWAN, has changed its name to MediaTek Inc.; Mentor, a Siemens Business, Wilsonville, OR, has changed its name to Siemens Industry Software, Inc.; Phoelex, Cambridge, UNITED KINGDOM has changed its name to Phoelex LTD; and TowerJazz, Newport Beach, CA, has changed its name to Tower Semiconductor.

No other changes have been made in either the membership or planned activity of the group research project. Membership in this group research project remains open, and Si2 intends to file additional written notifications disclosing all changes in membership.

On December 30, 1988, Si2 filed its original notification pursuant to Section 6(a) of the Act. The Department of Justice published a notice in the Federal Register pursuant to Section 6(b) of the Act on March 13, 1989 (54 FR 10456).

The last notification was filed with the Department on April 23, 2020. A notice was published in the Federal Register pursuant the Section 6(b) of the Act on May 19, 2020 (85 FR 29975).

Suzanne Morris,
Chief, Premerger and Division Statistics, Antitrust Division.

[FR Doc. 2021-10936 Filed 5-24-21; 8:45 am]

BILLING CODE 4410-11-P